DEPARTMENT OF ENERGY

Federal Energy Regulatory Commission

[Docket No. RP04-302-000]

Gas Transmission Northwest Corporation; Notice of Proposed Change in FERC Gas Tariff

May 26, 2004.

Take notice that on May 20, 2004, Gas Transmission Northwest Corporation (GTN) tendered for filing various tariff sheets to be part of its superseded FERC Gas Tariff, Second Revised Volume No. 1-A, and its current FERC Gas Tariff, Third Revised Volume No. 1-A.

GTN states that this filing is necessary to incorporate tariff changes previously approved in GTN's First Revised Volume No. 1-A. GTN requests that the Commission accept the Second Revised Volume No. 1-A tariff sheets to be effective on August 22, 2002, and the Third Revised Volume No. 1-A tariff sheets to be effective October 6, 2003.

GTN further states that a copy of this filing has been served on GTN's jurisdictional customers and interested State regulatory agencies.

Any person desiring to be heard or to protest said filing should file a motion to intervene or a protest with the Federal Energy Regulatory Commission, 888 First Street, NE., Washington, DC 20426, in accordance with sections 385.214 or 385.211 of the Commission's rules and regulations. All such motions or protests must be filed in accordance with section 154.210 of the Commission's regulations. Protests will be considered by the Commission in determining the appropriate action to be taken, but will not serve to make protestants parties to the proceedings. Any person wishing to become a party must file a motion to intervene. This filing is available for review at the Commission in the Public Reference Room or may be viewed on the Commission's Web site at http://www.ferc.gov using the eLibrary. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the e-Filing link.

Magalie R. Salas,
Secretary.

[FR Doc. E4-1250 Filed 6-3-04; 8:45 am]

BILLING CODE 6717-01-P